DEPARTMENT OF ENERGY

Federal Energy Regulatory Commission

[Docket No. RP03-123-000]

Southern Gas Company; Notice of Technical Conference

March 20, 2003.

In the Commission's order issued on December 30, 2002,¹ the Commission directed that a technical conference be held to address issues raised by Southern's tariff filing, which proposed to reduce its Storage Cost Reconciliation Mechanism (SCRM).

¹ Southern Gas Company, 101 FERC ¶ 61,397 (2002).

Take notice that the technical conference will be held on Thursday, April 3, 2003, 10 a.m., in a room to be designated at the offices of the Federal Energy Regulatory Commission, 888 First Street, NE., Washington, DC 20426.

All interested parties and Staff are permitted to attend.

Magalie R. Salas,
Secretary.

[FR Doc. 03-7328 Filed 3-26-03; 8:45 am]

BILLING CODE 6717-01-P